DEPARTMENT OF AGRICULTURE

Grain Inspection, Packers and Stockyards Administration

Cancellation of Indianapolis Grain Inspection & Weighing Service, Inc. Designation; Selection of Interim Provider; Opportunity for Designation in the Indianapolis, IN Area

AGENCY: Grain Inspection, Packers and Stockyards Administration, USDA.

ACTION: Notice.

SUMMARY: Indianapolis Grain Inspection & Weighing Service, Inc. (Indianapolis) is designated to provide official inspection service through December 31, 2012, under the United States Grain Standards Act (USGSA), as amended. Indianapolis informed the Grain Inspection, Packers and Stockyards Administration (GIPSA) that it was willing to provide official inspection services through December 31, 2012, but requested that GIPSA find an interim provider as soon as possible. GIPSA notified all official agencies of the interim availability for Indianapolis and selected East Indiana Grain Inspection, Inc. as the interim provider effective October 15, 2012 until a permanent designee is selected. Accordingly, GIPSA is announcing that Indianapolis's designation terminates effective December 31, 2012 and is asking persons or governmental agencies interested in providing official services in the area presently assigned to Indianapolis to submit an application for designation.

DATES: Applications must be received by November 30, 2012.

ADDRESSES: Submit applications and comments concerning this notice using any of the following methods:

• Applying for Designation on the Internet: Use FGISOnline (https://fgis.gipsa.usda.gov/default_home_FGIS.aspx) and then click on the Delegations/Designations and Export Registrations (DDR) link. You will need to obtain an FGISOnline customer number and USDA eAuthentication username and password prior to applying.

• Submit Comments Using the Internet: Go to Regulations.gov (http://www.regulations.gov). Instructions for submitting and reading comments are detailed on the site.

• Mail, Courier or Hand Delivery: Eric J. Jabs, Chief, USDA, GIPSA, FGIS, QACD, QADB, 10383 North Ambassador Drive, Kansas City, MO 64153.

• Fax: Eric J. Jabs, 816-872-1257.

• Email: Eric.J.Jabs@usda.gov

Read Applications and Comments: All applications will be available for public inspection at the office above during regular business hours (7 CFR 1.27(c)).

FOR FURTHER INFORMATION CONTACT: Eric J. Jabs, 816-659-8408 or Eric.J.Jabs@usda.gov.

SUPPLEMENTARY INFORMATION: Section 79(f) of the United States Grain Standards Act (USGSA) authorizes the Secretary to designate a qualified applicant to provide official services in a specified area after determining that the applicant is better able than any other applicant to provide such official services (7 U.S.C. 79(f)). Under section 79(g) of the USGSA, designations of official agencies are effective for three years unless terminated by the Secretary, but may be renewed according to the criteria and procedures prescribed in section 79(f) of the USGSA.

Area Open for Designation

Pursuant to Section 79(f)(2) of the United States Grain Standards Act, the following geographic area, in the State of Indiana, is assigned to this official agency.

Bartholomew; Brown; Hamilton, south of State Route 32; Hancock; Hendricks; Johnson; Madison, west of State Route 13 and south of State Route 132; Marion; Monroe; Morgan; and Shelby Counties.

Opportunity for Designation

Interested persons or governmental agencies may apply for designation to provide official services in the geographic areas specified above under the provisions of section 79(f) of the USGSA and 7 CFR 800.196. Designation in the specified geographic areas is for the period beginning January 1, 2013 and ending December 31, 2016. To apply for designation or for more information, contact Eric J. Jabs at the address listed above or visit GIPSA's Web site at http://www.gipsa.usda.gov.

We consider applications, comments, and other available information when determining which applicants will be designated.

Authority: 7 U.S.C. 71-87k.

Larry Mitchell,
Administrator, Grain Inspection, Packers and Stockyards Administration.

[FR Doc. 2012-26824 Filed 10-30-12; 8:45 am]

BILLING CODE 3410-KD-P